FEDERAL MINE SAFETY AND HEALTH REVIEW COMMISSION

Sunshine Act Meeting Notice

TIME AND DATE: 10 a.m., Tuesday, March 21, 2023.

PLACE: The Richard V. Backley Hearing Room, Room 511, 1331 Pennsylvania Avenue NW, Suite 504 North, Washington, DC 20004 (enter from F Street entrance).

STATUS: Open.

MATTERS TO BE CONSIDERED: The Commission will consider and act upon the following in open session: Secretary of Labor on behalf of Smitherman v. Warrior Met Coal Mining LLC, Docket No. SE 2021-0153. (Issues include whether a miner was terminated in violation of section 105(c) of the Mine Act because the operator believed he was involved in making a safety complaint.)

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

Phone Number for Listening to Meeting: 1-(866) 236-7472 Passcode: 678-100.

(Authority: 5 U.S.C. 552b)

Dated: March 10, 2023.
Sarah L. Stewart,
Deputy General Counsel.

[FR Doc. 2023-05299 Filed 3-10-23; 11:15 am]

BILLING CODE 6735-01-P